DEPARTMENT OF STATE

[Public Notice 5210]

Bureau of Educational and Cultural Affairs (ECA) Request for Grant Proposals: Future Leaders Exchange Civic Education Workshop

Announcement Type: New Grant.

Funding Opportunity Number: ECA/PE/C/PY-06-02.

Catalog of Federal Domestic Assistance Number: 00.000.

Key Dates: Application Deadline: November 28, 2005.

Executive Summary: The Office of Citizen Exchanges, Youth Programs Division of the Bureau of Educational and Cultural Affairs announces an open competition to conduct the Spring 2006 Civic Education workshop for the Future Leaders Exchange (FLEX) program. Overall goals of the workshop are: (1) To expose high school students from Eurasia to Federal political processes and citizen participation in government at the national level; (2) to examine the concept of effective leadership in society through looking at positive and negative examples and role models; (3) to instill in students the importance of tolerance and respect for individual differences in a civil society; and (4) to provide students with specific tools they can take home to aid in the transformation of their home countries to democratic and civil societies. Public and private non-profit organizations meeting the provisions described in Internal Revenue Code section 26 U.S.C. 501(c)(3) may submit proposals to develop and conduct a one-week workshop in Washington, DC, in spring 2006 that focuses on the basic tenets of the Constitution and the fundamental elements of a civil society, including the relationship between the Federal government and State and local governments, and the rule of law in a civil society.

I. Funding Opportunity Description

Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: This workshop is being conducted to expose approximately 110-120 high school students from Eurasia to important elements of a civil society, as described in the goals above. The recipient of the grant is responsible for developing and conducting the Civic Education workshop based on guidelines set forth by ECA's Youth Programs Division. Workshop participants will be attending school in the United States during 2005/06 under the Division's FLEX program. They will be selected through an essay contest from among a group of 1,200 current FLEX students. Competitive proposals will demonstrate a method for substantive and specific measurement of whether the goals listed above have been achieved. The maximum grant award will be $155,000. Only one grant will be awarded. An effort should be made to maximize cost sharing through other private sector support as well as direct institutional funding contributions. Provision of cost sharing to maximize the number of participants will be looked at very favorably.

Program Information: The grantee organization will be responsible for coordinating travel arrangements for each participant from his/her host community to Washington, DC, and return, and for providing room and board for students during their time in Washington. Proposals must demonstrate flexibility and a willingness to work with the Department of State and the Bureau in arranging certain briefings and visits, as the opportunity arises.

Overview: This workshop should enable participants to learn firsthand about the federal system of government, observe government institutions, hear about and discuss issues on the federal agenda, and interact with government officials. Special attention should be paid to those issues that will be especially significant to people from the countries of Eurasia. The workshop should also provide an opportunity for participants to gain a broader understanding of democratic concepts and values that are such an integral part of American society and culture, such as citizen empowerment, volunteerism, community action, and respect and tolerance for diversity and individual differences and points of view. The program should be arranged for seven days, including arrival and departure.

The grantee organization will be provided with the names of the students who will have been chosen through the competitive essay contest conducted by another grantee organization. A group of independent, objective selectors will review the essays. Winning essays will be sent to the Civic Education grantee organization, as well.

Guidelines: The workshop should be held in late winter or early Spring 2006. Proposals must effectively describe the organization's ability to accomplish the following essential components of the program:

1. Provide a Civic Education workshop in Washington, DC, as described above and held at the time period indicated. Congress must be in session during this time. Program components should include sessions on federalism, U.S. domestic and foreign policy, the role of the media in the United States, citizen empowerment, volunteerism, community activism, and respect and tolerance for individual differences and points of view. Leadership should be a sub-theme throughout the program and should include the effective exercise of leadership in the political process.

2. Provide pre-program training for organization staff on general elements of Eurasian society and culture and how this impacts on FLEX participants.

3. Provide housing and meals for the students throughout the program.

4. Arrange travel for students from their U.S. host communities to Washington, DC and return in coordination with FLEX placement organizations. (Note: Students will likely be coming from most of the 50 states.) Provide ground transportation for students in the DC area, including to and from airports.

5. Provide opportunities to attend relevant cultural events and visit museums and monuments and use these to spark further discussion and learning.

6. Coordinate with the Bureau's Youth Programs Division (ECA/PE/C/PY) and the Department's Office of Congressional Affairs (H) in making appropriate arrangements for individual meetings for all workshop participants with their respective members of Congress (either Senator or Representative).

7. Provide staff to assist in case of medical emergencies.

8. Incorporate and describe a program component designed to facilitate students' transition from the DC program to their host communities. A portion of this component should provide students with the opportunity to demonstrate how they will share what they have learned, both in their U.S. host communities and when they return to their home countries.

9. Provide a mechanism for evaluation of the program in terms of its impact on the students and its success in fulfilling the objectives.

A competitive proposal will incorporate important elements of American culture in sessions that are largely interactive and designed to appeal to high school-age students. The program must be substantive and academic while, at the same time, be paced realistically to meet the needs of people in this age group.

Significant cost sharing is important since it will enable a greater number of students to participate. Therefore, those proposals that show more generous and creative cost sharing will be more favorably viewed. Please refer to the Program Objectives, Goals, and Implementation (POGI) section of the Solicitation Package for greater detail regarding the design of component parts as well as other program information.

II. Award Information

Type of Award: Grant Agreement.

Fiscal Year Funds: FY 06.

Approximate Total Funding: $155,000.

Approximate Number of Awards: 1.

Anticipated Award Date: Pending availability of funds, January 2006.

Additional Information: Pending successful implementation of this program and the availability of funds in subsequent fiscal years, it is ECA's intent to renew this grant for two additional fiscal years, before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs. Proposals should maximize cost sharing through other private sector support as well as institutional direct funding contributions. When cost sharing is offered, it is understood and agreed that the applicant must provide the amount of cost sharing as stipulated in its proposal and later included in an approved grant agreement. Cost sharing may be in the form of allowable direct or indirect costs. For accountability, the grantee organization must maintain written records to support all costs that are claimed as its contribution, as well as costs to be paid by the Federal government. Such records are subject to audit. The basis for determining the value of cash and in-kind contributions must be in accordance with OMB Circular A-110, (Revised), Subpart C.23—Cost Sharing and Matching. In the event the grantee organization does not provide the minimum amount of cost sharing as stipulated in the approved budget, ECA's contribution will be reduced in like proportion.

III.3. Other Eligibility Requirements: Bureau grant guidelines require that organizations with less than four years experience in conducting international exchanges be limited to $60,000 in Bureau funding. Since ECA anticipates awarding only one grant in an amount up to $155,000 to support program and administrative costs required to implement this exchange program, organizations with less than four years experience in conducting international exchanges are ineligible to apply under this competition.

IV. Application and Submission Information

Note: Please read the complete Federal Register announcement before sending inquiries or submitting proposals. Once the RFGP deadline has passed, Bureau staff may not discuss this competition with applicants until the proposal review process has been completed.

IV.1. Contact Information to Request an Application Package: Please contact the Office of Citizen Exchanges, Youth Programs Division (ECA/PE/C/PY), Room 568, U.S. Department of State, SA-44, 301 4th Street, SW., Washington, DC 20547, telephone (202)203-7513; fax (202)203-7529; e-mail: BeachLF@state.gov to request a Solicitation Package. Please refer to the Funding Opportunity Number ECA/PE/C/PY-06-02 located at the top of this announcement when making your request.

The Solicitation Package contains the Proposal Submission Instruction (PSI) document that consists of required application forms, and standard guidelines for proposal preparation, including additional formatting and technical requirements. It also contains the Project Objectives, Goals and Implementation (POGI) document, which provides specific information, award criteria and budget instructions tailored to this competition.

Please specify Diana Aronson and refer to the Funding Opportunity Number ECA/PE/C/PY-06-02 located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and 8 copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa. For informational purposes only, the Bureau of Educational and Cultural Affairs is placing renewed emphasis on the secure and proper administration of Exchange Visitor (J visa) Programs and adherence by grantees and sponsors to all regulations governing the J visa. A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, Fax: (202) 453-8640.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The grantee will be required to provide reports analyzing their evaluation findings to the Bureau in its regular program report. All data collected, including survey responses and contact information, must be maintained for a minimum of three years and provided to the Bureau upon request.

IV.3e. Please take the following information into consideration when preparing your budget:

IV.3e.1. Applicants must submit a comprehensive budget for the entire program. Organizations must bid on arranging a program for a minimum of 110 students but may increase the number of participants through cost sharing the additional expenses incurred, thus maximizing cost effectiveness and optimal program planning. It is estimated that the total costs of the Civic Education workshop will average $1,300 per FLEX participant for a one-week program, including domestic travel. The award may not exceed $155,000. Your submission must include a summary budget as well as breakdowns reflecting both administrative and program budgets. Applicants may provide separate sub-budgets for each program component, phase, location, or activity to provide clarification.

IV.3e.2. Please refer to the Solicitation Package for further details, including a list of allowable costs for the program.

IV.3f. Submission Dates and Times:

Application Deadline Date: Monday, November 28, 2005.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and eight (8) copies of the application should be sent to: U.S. Department of State, SA-44, Bureau of Educational and Cultural Affairs, Ref.: ECA/PE/C/PY-06-02, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission, as well as the objectives of the FLEX program. Program design must reflect an understanding of young people and of cultural traits that would be specific to this population.

2. Program planning: Detailed agenda and relevant work plan should demonstrate substantive undertakings and logistical capacity. Agenda and plan should adhere to the program overview and guidelines described above.

3. Ability to achieve program objectives: Objectives should be reasonable, feasible, and flexible. Proposals should clearly demonstrate how the organization will meet the program's objectives and plan.

4. Multiplier effect/impact: Proposed programs should describe the impact that workshop participants will have on others, both in their U.S. host communities and in Eurasia after they return home. There should be a specific plan for providing students with tools they can take back to their Eurasian home countries to implement concepts and ideas they have gained from the workshop. Proposals also should explain how students will be prepared to transition back to their host communities.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and organizational resources should be adequate and appropriate to achieve the program or project's goals.

7. Institution's Record/Ability: Proposals should demonstrate an institutional record of successful exchange programs, including responsible fiscal management and full compliance with all reporting requirements for past Bureau grants as determined by Bureau Grants Staff. The Bureau will consider the past performance of prior recipients and the demonstrated potential of new applicants.

8. Project Evaluation: Proposals should include a plan to evaluate the activity's success, both as the activities unfold and at the end of the program. A draft survey questionnaire or other technique plus description of a methodology to use to link outcomes to original project objectives is recommended.

9. Cost-effectiveness/Cost-sharing: The overhead and administrative components of the proposal, including salaries and honoraria, should be kept as low as possible. All other items should be necessary and appropriate. Proposals should maximize cost-sharing through other private sector support as well as institutional direct funding contributions.

VI. Award Administration Information

VI.1. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application. Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants; http://exchanges.state.gov/education/grantsdiv/terms.htm#articleI.

VI.3. Reporting Requirements: You must provide ECA with a hard copy original plus two copies of the following report: A final program and financial report no more than 90 days after the expiration of the award.

As indicated above, the grantee will be required to provide reports analyzing its evaluation findings to the Bureau in its regular program report. (Please refer to IV. Application and Submission Instructions (IV.3.d.3) above for Program Monitoring and Evaluation information).

All data collected, including survey responses and contact information, must be maintained for a minimum of three years and provided to the Bureau upon request.

All reports must be sent to the ECA Grants Officer and ECA Program Officer listed in the final assistance award document.

VII. Agency Contacts

For questions about this announcement, contact: Diana Aronson, Office of Citizen Exchanges, Youth Programs Division, ECA/PE/C/PY, Room 568, ECA/PE/C/PY-06-02, U.S. Department of State, SA-44, 301 4th Street, SW., Washington, DC 20547, phone—(202) 203-7501, fax—(202) 203-7529, AronsonDS@state.gov. All correspondence with the Bureau concerning this RFGP should reference the above title and number ECA/PE/C/PY-06-02.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: October 19, 2005.
Dina Habib Powell,
Assistant Secretary for Educational and Cultural Affairs, Department of State.

[FR Doc. 05-21471 Filed 10-26-05; 8:45 am]

BILLING CODE 4710-05-P